Title 3—

The President

Memorandum of February 16, 2024

Delegation of Authority Under Section 1230 of the National Defense Authorization Act for Fiscal Year 2024

Memorandum for the Secretary of State[,] the Secretary of Defense[, and] the Attorney General

By the authority vested in me as President by the Constitution and the laws of the United States of America, including section 301 of title 3, United States Code, I hereby delegate to the Secretary of Defense, in consultation with the Secretary of State and, as appropriate, the Attorney General, the authority to transmit to certain congressional committees the report required by section 1230 of the National Defense Authorization Act for Fiscal Year 2024 (Public Law 118-31).

The delegation in this memorandum shall apply to any provision of any future public law that is the same or substantially the same as the provision referenced in this memorandum.

The Secretary of Defense is authorized and directed to publish this memorandum in the Federal Register.

THE WHITE HOUSE,

Washington, February 16, 2024

[FR Doc. 2024-03754

Filed 2-21-24; 8:45 am]

Billing code 6001-FR-P